DEPARTMENT OF HOUSING AND URBAN DEVELOPMENT

[Docket No. FR-4723-FA-03]

Announcement of Funding Awards for Fiscal Year 2002 Hispanic-Serving Institutions Assisting Communities Program

AGENCY: Office of the Assistant Secretary for Policy Development and Research, HUD.

ACTION: Announcement of funding awards.

SUMMARY: In accordance with section 102(a)(4)(C) of the Department of Housing and Urban Development Reform Act of 1989, this document notifies the public of funding awards for Fiscal Year 2002 Hispanic-Serving Institutions Assisting Communities Program (HSIAC). The purpose of this document is to announce the names, addresses and the amount awarded to the winners to be used to help Hispanic-Serving Institutions of Higher Education to expand their role and effectiveness in addressing community development needs in their localities, consistent with the purposes of HUD's Community Development Block Grant program (CDBG).

FOR FURTHER INFORMATION CONTACT: Susan Brunson, Office of University Partnerships, Department of Housing and Urban Development, Room 8106, 451 Seventh Street, SW., Washington, DC 20410, telephone (202) 708-3061, ext. 3852. To provide service for persons who are hearing-or speech-impaired, this number may be reached via TTY by Dialing the Federal Information Relay Service on 800-877-8339 or 202-708-1455. (Telephone numbers, other than “800” TTY numbers are not toll free).

SUPPLEMENTARY INFORMATION: The Hispanic-Serving Institutions Assisting Communities Program was approved by Congress under section 107 of the Community Development Block Grant appropriations for the Fiscal Year 2002, and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The HSIAC program provides funds for a wide range of CDBG-eligible activities including housing rehabilitation and financing, property demolition or acquisition, public facilities, economic development, business entrepreneurship, and fair housing programs.

The Catalog of Federal Domestic Assistance number for this program is 14.515.

On March 26, 2002 (67 FR 13969), HUD published a Notice of Funding Availability (NOFA) announcing the availability of $10.1 million in Fiscal Year 2002 for the HSIAC Program. The Department reviewed, evaluated, and scored the applications received based on the criteria in the NOFA. As a result, HUD has funded the applications below, in accordance with section 102(a)(4)(C) of the Department of Housing and Urban Development Reform Act of 1989 (103 Stat. 1987, 42 U.S.C. 3545), the Department is publishing details concerning the recipients of funding awards, as set forth below.

List of Awardees for Grant Assistance Under the FY 2002 Hispanic-Serving Institutions Assisting Communities Program

Funding Competition, by Institution, Address and Grant Amount

New England

1. North Essex Community College, Ms. Mayte Rivera, Community Institute of Business Educations, North Essex Community College, 45 Franklin Street, Lawrence, MA 01841. Grant: $278,738.

New York/New Jersey

2. Boricua College, Dr. Victor G. Alicea, Boricua College, 584 Driggs Avenue, Brooklyn, NY 11211. Grant: $200,109.

Southeast/Caribbean

3. Universidad del Este, Alberto Maldonado-Ruiz, Office of Academic Affairs, Universidad del Este, P.O. Box 2010, Carolina, PR 00984-2010. Grant: $600,000.

4. Universidad del Turabo, Dr. Dennis Alicea, Universidad del Turabo, P.O. Box 3003, University Station Guarbo, PR 00778-3030. Grant: $600,000.

Southwest

5. University of Texas at San Antonio, Noe Saldana, University of Texas at San Antonio, 6900 North Loop 1604 West, San Antonio, TX 78249-0603. Grant: $584,972.

6. University of Texas at Brownsville & Texas Southmost College, Jim Holl, University of Texas at Brownsville & Texas Southnost College, 80 Fort Brown, Brownsville, TX 78520. Grant: $600,000.

Great Plains

7. Donnelly College, Sue Laird, Donnelly College, 608 North 18th Street, Kansas City, KS 66012. Grant: $174,462.

Pacific/Hawaii

8. California State University-Northridge, Dr. Warren Furmoto, College of Science & Math, California State University, Northridge, 1811 Nordhoff Street, Northridge, CA 91330-8232. Grant: $600,000.

9. Gavilian Joint Community College, Rachel Perez, Gavilian Joint Community College, 5055 Santa Teresa Boulevard, Gilroy, CA 95020. Grant: $599,660.

10. San Bernardino Community College, Larry Fugal, San Bernardino Community College, 114 South Del Rosa Drive, San Bernardino, CA 92408. Grant: $600,000.

11. Los Angeles Valley College, Dr. Deborah diCesare, Job Training and Economic Development, Los Angeles Valley College, 5800 Fulton Avenue, Valley Glen, CA 91401-4096. Grant: $ 599,992.

12. Southwestern College, William Kinney, Higher Education Center National City, Southwestern College, 900 Otay Lakes Road, Chula Vista, CA 91910. Grant: $594,534.

13. Yosemite Community College, Bennett Tom, Yosemite Community College, P.O. Box 4065, Modesto CA 95352. Grant: $161,538.

14. West Kern Community College, Jeff Ross, Student Services, West Kern Community College, 29 Emmons Park Drive, Taft CA 93268. Grant: $492,855.

15. California State University Dominguez Foundation, Dr. Margaret Wallace, California State University Dominguez Foundation, 1000 East Victoria Street, Carson, CA 90747. Grant; $502,034.

16. West Hills Community College District, Patty Scroggins, Child Development District Office, West Hills Community College, 300 Cherry Lane, Coalinga CA 93210. Grant: $600,000.

17. Phoenix College, Dr. James Moore, Phoenix College, 1202 West Thomas Road, Phoenix AZ 85013. Grant: $578,297.

18. University of Arizona Board of Regents, Robert S. Done, University of Arizona Board of Regents, P.O. Box 3308, Tucson AZ 85722-3308. Grant: $599,350.

Northwest/Alaska

19. Columbia Basin College, Dr. Lee R. Thornton, Columbia Basin College, 2600 North 20th Avenue, Pasco WA 99301-3379. Grant: $600,000.

Dated: November 13, 2002.
Harold L. Bunce,
Deputy Assistant Secretary for Economic Affairs.

[FR Doc. 02-29706 Filed 11-21-02; 8:45 am]

BILLING CODE 4210-62-P